DEPARTMENT OF ENERGY

Federal Regulatory Energy Commission

[Project Nos. 2942-005, 2931-002, 2941-002, 2932-003, and 2897-003]

S.D. Warren Company; Notice of Public Meeting To Discuss the Draft Environmental Impact Statement for the Proposed Relicensing of the Constructed and Operating Presumpscot River Projects in Cumberland County, ME

September 20, 2001.

a. Date and time of meeting: Thursday, October 25, 2001, from 7 p.m. to 10 p.m.

b. Place: Main cafeteria at Windham High School, 406 Gray Road, Windham, ME.

c. Purpose of the meeting: (1) To enable Commission staff to summarize the findings, conclusions, and recommendations of its Draft Environmental Impact Statement (DEIS) for the five Presumpscot River projects, and to answer questions concerning that document; and (2) to obtain public comments (oral and written) on the DEIS.

All interested individuals, organizations, agencies, and tribes are invited to attend the meeting, which will be recorded by a court reporter; consequently, all meeting statements (oral and written) will become part of the Commission's public record of this proceeding. Further, individuals presenting statements for the public record will be required to sign in before the meeting starts and to identify themselves for the record.

Please note that the time that each speaker is allowed will depend upon the number of persons who indicate their intention to provide oral comments; consequently, persons with extensive comments are encouraged to provide their detailed information in writing to the court reporter and to develop an oral summary of five minutes or less.

d. Comment deadline: Interested parties who are unable to attend the public meeting or to prepare comments for that meeting may subsequently file written comments with the Commission. Any comments should be addressed to David P. Boergers, Secretary, Federal Energy Regulatory Commission, 888 First Street, NE., Washington, DC 20246. The first page of all filings should indicate “Presumpscot River Projects, Nos. 2942-005, 2931-002, 2941-002, 2932-003, and 2897-003” at the top of the page. To enable Commission staff to consider such comments in its Final Environmental Impact Statement for the Presumpscot River Projects, any correspondence concerning the subject DEIS must be received by the Commission on or before December 4, 2001. Comments, protests and interventions may be filed electronically via the Internet in lieu of paper. See, 18 CFR 385.2001(a)(1)(iii) and the instructions on the Commission's web site under the “e-Filing” link.

Participants in this proceeding are reminded that, if they file comments with the Commission, they should serve a copy of their filing on all parties included in the Commission's service list for the Presumpscot River projects.

e. FERC contact: James Haimes (202) 219-27780; e-mail at james.haimes@ferc.fed.us

David P. Boergers,
Secretary.

[FR Doc. 01-24014 Filed 9-25-01; 8:45 am]

BILLING CODE 6717-01-P